DEPARTMENT OF TRANSPORTATION

Federal Aviation Administration

Notice of Availability of a Draft Environmental Impact Statement for Atlantic City International Airport, NJ

AGENCY: Federal Aviation Administration, DOT.

ACTION: Notice of availability of a Draft Environmental Impact Statement for airport layout plan approval and Federal funding at Atlantic City International Airport, New Jersey.

SUMMARY: Notice is given that the Federal Aviation Administration (FAA) has prepared and released a Draft Environmental Impact Statement (DEIS) for improvement projects at Atlantic City International Airport. The DEIS addresses a proposal by the South Jersey Transportation Authority (SJTA) to construct the new or expanded facilities needed to continued operating the airport in a safe, efficient, and more productive manner. The airport is located in an ecologically sensitive area, and a variety of natural resources could be adversely affected if the proposed projects are implemented. Accordingly, the DEIS analyzes, evaluates, and discloses the potentially significant environmental impacts associated with reasonable alternatives, including the alternative of taking no action. The public is invited to comment on the DEIS during the 45-day comment period as well as to attend a public hearing, which will be schedule shortly.

DATES: Comments on the DEIS will be accepted for 45 days following the date that the US Environmental Protection Agency (EPA) publishes its Notice of Availability (NOA) in the Federal Register, which should be on or after September 16th, 2002; the comment due date would then be Monday, October 28th, 2002. However, the FAA will notify all parties on the project mailing list of the exact dates that comments will be accepted. Future notification regarding the public hearing date, expected in mid-October 2002, will be provided through public notices, local news media releases, and/or mailings. These notifications will be provided at least 15 days in advance of the public hearing and 30 days in advance of the deadline for submitting comments.

The FAA asks that comments on the DEIS be as specific as possible, including references to page numbers, chapters, or appendices. Comments that include suggested changes, sources, or methodologies are more helpful. Comments containing only opinions or preferences will not receive a formal response; however, they will be considered and included as part of the decision-making process.

ADDRESSES: Written comments on the DEIS should be sent to the FAA's Project Manager, Daisy Mather, Federal Aviation Administration, Eastern Region Airports Division, AEA-610, 1 Aviation Plaza, Jamaica, NY 11434 (or alternatively by e-mail: daisy.mather@faa.gov).

SUPPLEMENTARY INFORMATION: The SJTA has completed a master plan, an airport layout plan, and an environmental assessment (EA) for future development projects at Atlantic City International Airport (ACY). Based on the EA and the related agency comments, the FAA determined that the proposed improvements had the potential to cause significant adverse impacts to the environment and that a DEIS should be prepared.

A Notice of Intent (NOI) to prepare an EIS was published in the Federal Register [FR Doc. 00-24935]. Scoping meetings were held with the public as well as with regulatory agencies that were involved in the EA process. Scoping identified the following environmental impact categories as being significant issues or concerns; noise, secondary and induced impacts, air quality, water resources, biotic communities, threatened and endangered species, wetlands, hazardous waste, and cumulative effects.

The proposal involves four near-term development projects. The SJTA has requested that FAA take environmental action on these projects' therefore, they are ripe for decision. They include terminal area development, auxiliary area development, hotel-conference center construction, and Runway 13-31 instrument landing system (ILS) upgrade. Because there are several environmental concerns associated with the proposed projects, certain mitigation measures have been incorporated early on in an effort to provide solutions to potential environmental impacts. The proposed mitigation projects include, but are not limited to, a mitigation and management plan for grassland habitat and a storm water management plan. For each of these near-term projects, the FAA's preferred alternative is identified, as is the environmentally-preferred alternative, which are the same for all but one project.

Major aspects of the terminal area development project are terminal building improvements and construction of new gates; construction of a public parking garage, rental car maintenance facility, airline cargo warehouses, general aviation hangars, and a deicing apron; and implementation of grassland mitigation and management projects and storm water best management practices. Five different locations on the airport were identified as candidate sites for terminal area development, but four of these were dismissed as being unreasonable because they failed to accomplish the project objectives, or they resulted in greater environmental harm, or both. Accordingly, two alternatives are evaluated in the DEIS: The Build Alternative and the No-Action Alternative.

The Build Alternative has the potential to benefit the airport and the local economy in terms of job creation and economic growth. Water resources would also benefit by implementing the storm water best management practices and by a having an engineered facility to control the runoff of deicing and anti-icing agents. However, the Build Alternative requires 58 acres of open space to be developed, resulting in a loss of 49 acres of grassland and nine acres of upland forest. Almost all of the affected grassland is classified as critical habitat for two state-listed threatened and endangered bird species—the upland sandpiper and the grasshopper sparrow. To compensate for the loss, the Upland Sandpiper and Grasshopper Sparrow Mitigation and Management Plan has been prepared, which demonstrates that sufficient suitable habitat could be created and managed in the northwest quadrant of the airport so that there would be no net loss in grassland habitat value on the airport. The No-Action Alternative fails to meet the project's objectives. Therefore, the FAA proposes to implement the Build Alternative, with mitigation measures that reduce adverse environmental impacts to the extent practicable.

Major aspects of the auxiliary area development project are construction of aircraft maintenance hangars, air-freight warehouses, a parallel taxiway, an aircraft parking apron and connector taxiways, an access roadway, auto parking areas; and implementation of the grassland mitigation and management projects and storm water best management practices. Three alternatives are evaluated in the DEIS: two build alternatives and the No-Action Alternatives Build Alternative 1 utilizes the northwest quadrant of the airport, while Build Alternative 2 utilizes the southwest quadrant. Build Alternative 1 causes the most significant environmental impacts. It requires up to 70 acres of grassland to develop, which would result in substantial habitat loss and fragmentation, severely impacting several state-listed grassland bird species. This alternative also conflicts with the SJTA's plan to use the northwest quadrant of the airport for grassland mitigation and management for all of the near-term projects, so mitigation for habitat losses may not be feasible.

Build Alternative 2 would cause less environmental harm when compared with Build Alternative 1. The Build Alternative site is smaller and is centrally located amidst other developed areas. This would reduce habitat loss to 39 acres of grassland and reduce fragmentation, thereby minimizing the potential for adverse effects to state-listed grassland bird species. To compensate for the impacts to their habitat, the Upland Sandpiper and Grasshopper Sparrow Mitigation and Management Plan demonstrates that sufficient suitable habitat could be created and managed in the northwest quadrant of the airport so that there would be no net loss of grassland habitat value on the airport. The No-Action Alternative fails to meet the project's objectives. Therefore, the FAA proposes to implement Build Alternative 2, with mitigation measures to minimize and compensate for adverse environmental impacts to the extent practicable.

For the hotel/conference center project, major aspects of the proposal include a two-to-three story building with 150 suites, lobby and amenities, swimming pool, outbuildings, parking, and storm water best management practices. Three alternatives are evaluated in the DEIS; two build alternatives and the No-Action Alternative. The Build Alternative 1 location is along Amelia Earhart Boulevard, and Build Alternative 2 location is near the Airport Circle. Build Alternative 1 requires 10.5 acres of pine-oak forest to be cleared near a reported Cooper's hawk nest site. It has not been determined for certain whether this nesting territory is currently active, but it is being treated as if it were. In contrast, Build Alternative 2 requires 13.5 acres of pine-oak forest to be removed from two New Jersey Department of Environmental Protection (JNDEP) designated protected habitat zones—one for the Cooper's hawk and the other for the barred owl. Although these protected areas do not currently contain nest sites, they may still provide suitable breeding habitat, and the NJDEP recommends that such areas be set aside for habitat protection. The No-Action Alternative fails to meet the project objectives. Although Build Alternative 2 is considered to be the environmental preferred alternative, Build Alternative 1, with mitigation measures to reduce adverse environmental impacts to the extent practicable, is the FAA's preferred alternative, because it better meets the project purpose and need.

For the ILS upgrade, major aspects of the proposal include installation of a glide slope antenna and a medium intensity approach light system. Three alternatives are evaluated in the DEIS: two build alternatives and the No-Action Alternative. Build Alternative 1 would involve installation of a new ILS on Runway 31. Build Alternative 2 would involve relocating the existing ILS from Runway 13 to Runway 31 and installing a new, upgraded ILS system on Runway 13. The potential environmental impacts associated with the two build alternatives are virtually the same. Build Alternative 2, which by definition includes Build Alternative 1, has additional direct loss of biotic communities, but the total is still less than one acre. The same is true for loss of habitat for the grassland bird species upland sandpiper and grasshopper sparrow: the loss of habitat would be less than one-third of an acre, which would be compensated for under the Upland Sandpiper and Grasshopper Sparrow Mitigation and Management Plan. The No-Action Alternative fails to meet the project objectives. Therefore, the FAA proposes to implement Build Alternative 2.

In addition to the near-term projects ripe for decision, the DEIS discusses four long-range projects that are not. Because the long-range projects are not reasonably foreseeable, the FAA will not take an environmental action on them at this time. Once they are ripe for decision, however, additional environmental review and will be necessary. The projects include construction of a direct airport access roadway, extension of Runway 4-22, construction of high-speed taxiway exists, and non-aviation related development along the White Horse Pike. In response to scoping comments, these long-range projects are included in the DEIS so that the agencies and the public have a clear understanding of the entire airport development plan and the potential environmental consequences associated with it.

Obtaining Copies of the DEIS: The complete Draft Environmental Impact Statement is a very large document. It includes a 350-page technical report and nine technical and administrative appendices. Copies are available upon written request to Daisy Mather (see contact information below). The first copy of each printed document is free. Additional copies are available, but may be provided at a reduced cost. Copies of the Executive Summary are free and available upon request.

FOR FURTHER INFORMATION CONTACT: Daisy Mather, Federal Aviation Administration, Eastern Region Airports Division, AEA-610, 1 Aviation Plaza, Jamaica, NY 11434; telephone (718) 553-2511; fax (718) 995-5694, or e-mail: daisy.mater@faa.gov.

Issued on September 10, 2002, in Jamaica, New York.
Sharon A. Daboin,
Acting Manager, Airports Division, Eastern Region.

[FR Doc. 02-23618 Filed 9-16-02; 8:45 am]

BILLING CODE 4910-13-M